FEDERAL MARITIME COMMISSION

46 CFR Part 515

[Docket No. 04-02]

Optional Rider for Proof of Additional NVOCC Financial Responsibility

AGENCY: Federal Maritime Commission.

ACTION: Notice of proposed rulemaking; extension of time.

SUMMARY: Upon consideration of two requests, the Commission has determined to extend the comment period in this matter.

DATES: Comments are now due on February 27, 2004.

ADDRESSES: Address all comments concerning this proposed rule to: Bryant L. VanBrakle, Secretary, Federal Maritime Commission, 800 North Capitol Street, NW., Room 1046, Washington, DC 20573-0001, E-mail: secretary@fmc.gov.

FOR FURTHER INFORMATION CONTACT: Amy W. Larson, General Counsel, Federal Maritime Commission, 800 North Capitol Street, NW., Room 1018, Washington, DC 20573-0001, (202) 523-5740, E-mail: GeneralCounsel@fmc.gov.

Sandra L. Kusumoto, Director, Bureau of Consumer Complaints and Licensing; Federal Maritime Commission, 800 North Capitol Street, NW., Room 970, (202) 523-5787, E-mail: otibonds@fmc.gov.

SUPPLEMENTARY INFORMATION: The Commission by Notice of Proposed Rulemaking published January 29, 2004, 69 FR 4271-4273, proposed to amend its regulations governing proof of financial responsibility for ocean transportation intermediaries. The Commission proposes to allow an optional rider for additional coverage to be filed with a licensed non-vessel-operating common carrier's proof of financial responsibility for such carriers serving the U.S. oceanborne trade with the People's Republic of China.

The American Surety Association and The Surety Association of America are seeking a seven-day extension of time to Friday, February 27, 2004, to file comments. In support of this request, the parties advise that they require additional time to complete and submit their comments. The Commission has determined to grant the requests. Comments are now due on Friday, February 27, 2004.

Bryant L. VanBrakle,
Secretary.

[FR Doc. 04-4071 Filed 2-24-04; 8:45 am]

BILLING CODE 6730-01-P